SECURITIES AND EXCHANGE COMMISSION

[Release No. 34-77819; File No. SR-BatsEDGX-2016-17]

Self-Regulatory Organizations; Bats EDGX Exchange, Inc.; Notice of Filing and Immediate Effectiveness of a Proposed Rule Change To Amend the Description of Price Improving Orders Under Subparagraph (6) to Rule 21.1(d) and Add Subparagraph (4) to Rule 21.1(h) Modifying the Operation of Orders Subject to the Display Price Sliding Process When a Contra-Side Post Only Order Is Received by the Bats EDGX Exchange Options Platform

May 12, 2016.

Pursuant to Section 19(b)(1) of the Securities Exchange Act of 1934 (the “Act”),¹ and Rule 19b-4 thereunder,² notice is hereby given that on May 3, 2016, Bats EDGX Exchange, Inc. f/k/a EDGX Exchange, Inc. (the “Exchange” or “EDGX”) filed with the Securities and Exchange Commission (“Commission”) the proposed rule change as described in Items I and II below, which Items have been prepared by the Exchange. The Exchange has designated this proposal as a “non-controversial” proposed rule change pursuant to Section 19(b)(3)(A) of the Act ³ and Rule 19b-4(f)(6)(iii) thereunder,⁴ which renders it effective upon filing with the Commission. The Commission is publishing this notice to solicit comments on the proposed rule change from interested persons.

¹ 15 U.S.C. 78s(b)(1).

² 17 CFR 240.19b-4.

³ 15 U.S.C. 78s(b)(3)(A).

⁴ 17 CFR 240.19b-4(f)(6)(iii).

I. Self-Regulatory Organization's Statement of the Terms of Substance of the Proposed Rule Change

The Exchange filed a proposal to: (i) Amend the description of Price Improving Orders under subparagraph (6) to Rule 21.1(d); and (ii) add subparagraph (4) to Rule 21.1(h) modifying the operation of orders subject to the display price sliding process when a contra-side Post Only Order ⁵ is received by the Exchange's options platform (“EDGX Options”).

⁵ See Exchange Rule 21.1(d)(8).

The text of the proposed rule change is available at the Exchange's Web site at www.batstrading.com, at the principal office of the Exchange, and at the Commission's Public Reference Room.

II. Self-Regulatory Organization's Statement of the Purpose of, and Statutory Basis for, the Proposed Rule Change

In its filing with the Commission, the Exchange included statements concerning the purpose of and basis for the proposed rule change and discussed any comments it received on the proposed rule change. The text of these statements may be examined at the places specified in Item IV below. The Exchange has prepared summaries, set forth in Sections A, B, and C below, of the most significant parts of such statements.

(A) Self-Regulatory Organization's Statement of the Purpose of, and Statutory Basis for, the Proposed Rule Change

1. Purpose

The Exchange is proposing to: (i) Amend the description of Price Improving Orders under subparagraph (6) to Rule 21.1(d); and (ii) add subparagraph (4) to Rule 21.1(h) modifying the operation of orders subject to the display price sliding process when a contra-side Post Only Order is received by EDGX Options.

Price Improving Orders

Price Improving Orders are orders to buy or sell an option at a specified price at an increment smaller than the minimum price variation in the security.⁶ Price Improving Orders may be entered in increments as small as (1) one cent. Price Improving Orders are displayed at the minimum price variation in the security and shall be rounded up for sell orders and rounded down for buy orders. Unless a User ⁷ has entered instructions not to do so, Price Improving Orders are subject to the “display-price sliding process” described in current Rule 21.1(h).

⁶ See Exchange Rule 21.1(d)(6).

⁷ The term “User” means any Options Member or Sponsored Participant who is authorized to obtain access to the System pursuant to Rule 11.3 (Access). See Exchange Rule 16.1(a)(63).

As described above, Price Improving Orders may be priced at an increment smaller than the minimum price variation in the security (i.e., for options priced in five (5) cent or ten (10) cent increments, an order priced at 1.03 is not a permissible increment for display). This may result in the order being ranked on the EDGX Options Book ⁸ non-displayed at a price increment smaller than the security's minimum price variation. The Exchange proposes to amend the description of Price Improving Orders under subparagraph (6) to Rule 21.1(d) to prevent Price Improving Orders subject to the Price Adjust process ⁹ from being ranked at a non-displayed price on the EDGX Options Book. The Exchange also proposes to amend subparagraph (6) to Rule 21.1(d) to clarify how Price Improving Orders subject to the display price sliding process are currently handled on the EDGX Options Book.

⁸ “EDGX Options Book” is defined as “the electronic book of options orders maintained by the Trading System.” See Exchange Rule 16.1(a)(9).

⁹ See Exchange Rule 21.1(i).

First, the Exchange proposes to amend the description of Price Improving Orders under subparagraph (6) to Rule 21.1(d) to prevent Price Improving Orders subject to the Price Adjust process from being ranked at a non-displayed price on the EDGX Options Book. Under the Price Adjust process, an order that, at the time of entry, would lock or cross a Protected Quotation of another options exchange or the Exchange will be ranked and displayed by the System at one minimum price variation below the current NBO (for bids) or to one minimum price variation above the current NBB (for offers). This could result in Price Improving Orders in securities with minimum quoting increments of five (5) or ten (10) cents ¹⁰ that the User elected to be subject to the Price Adjust process to be ranked on the EDGX Options Book at a non-displayed price. To prevent such orders from being ranked at a non-displayed price, the Exchange proposes to amend subparagraph (6) to Rule 21.1(d) to state that Price Improving Orders subject to the Price Adjust process will be ranked at the displayed price. Thus, other than a potential execution against contra-side liquidity when entered, a Price Improving Order subject to the Price Adjust process will no longer be priced at an increment smaller than the minimum price variation in the security.

¹⁰ See Exchange Rule 21.5 for a description of the Exchange's Minimum Increments.

The following examples describe the proposed operation of Price Improving Orders subject to the Price Adjust process.

Assume the NBBO is $1.00 x $1.05 and that the security's minimum quoting increment is five (5) cents. Further assume that there is no liquidity to sell resting on the EDGX Options Book at a price below $1.05. A Price Improving Order to buy priced at $1.03 is entered and the User has elected the Price Adjust process. Under current functionality, the order will be ranked, non-displayed on the EDGX Options Book at $1.03, the price of the order, and displayed at $1.00. As proposed, the order would be ranked and displayed at $1.00, the displayed price.

Assume the same example as above except that when the Price Improving Order is entered (i.e., an order to buy priced at $1.03 subject to the Price Adjust process) there is a resting Price Improving Order to sell ranked at a price of $1.03 (i.e., an order subject to the display price sliding process). In this case, the Price Improving Order subject to the Price Adjust process would execute upon entry against the resting order at $1.03.

The Exchange also proposes to amend subparagraph (6) to Rule 21.1(d) to clarify how Price Improving Orders subject to the display price sliding process are currently handled on the EDGX Options Book. While the Exchange believes the current operation of Price Improving Orders is clear based on existing rules, the Exchange believes this clarification is necessary due to the proposed changes. Particularly, in light of the change proposed above regarding Price Improving Orders subject to the Price Adjust process, the Exchange proposes to add language to subparagraph (d)(6) clarifying the operation of Price Improving Orders subject to the display price sliding process. As proposed, Exchange Rule 21.1(d)(6) would state that Price Improving Orders subject to the display-price sliding process will be ranked at the price entered by the User down to the current NBB (for offers) or up to the current NBO (for bids). The proposed language would make clear the current operation of such orders vis-a vis the proposed operation of Price Improving Orders subject to the Price Adjust process.

Display Price Sliding Process and Post Only Orders

Under current Exchange Rule 21.1(h), an order subject to the display price sliding process that, at the time of entry, would lock or cross a Protected Quotation of another options exchange will be ranked at the locking price in the EDGX Options Book and displayed by the System at one minimum price variation below the current National Best Offer (“NBO”) ¹¹ (for bids) or to one minimum price variation above the current National Best Bid (“NBB”) ¹² (for offers). Post Only Orders are orders that are to be ranked and executed on the Exchange pursuant to Rule 21.8 (Order Display and Book Processing) or cancelled, as appropriate, without routing away to another trading center.¹³ Currently, a Post Only Order will not remove liquidity from the EDGX Options Book unless the value of price improvement associated with such execution equals or exceeds the sum of fees charged for such execution and the value of any rebate that would be provided if the order posted to the EDGX Options Book and subsequently provided liquidity. In order to prevent circumstances on the EDGX Options Book where an order is ranked at the displayed price of a resting contra-side order, which could result in apparent violations of the Exchange's priority rule, an incoming Post Only Order is currently rejected if it would be posted at the locking price of a contra-side order subject to the display price sliding process. In particular, accepting such order would result in a situation where an order is displayed on the Exchange and a contra-side order is ranked at the same price as such order. In turn, if an execution at that price is reported by the Exchange, the Exchange believes a User representing the order displayed on the Exchange might believe that an incoming order was received by the Exchange and then bypassed such order (i.e., removing some other liquidity on the same side of the market as the displayed order). As described in further detail below, the proposal will avoid the possibility of an execution of an order subject to display-price sliding at the same price as an order displayed on the Exchange. The Exchange notes that the circumstance described above, where an incoming Post Only Order is rejected by the Exchange, is limited to times when the Exchange is not already quoting at the NBBO and a Post Only Order is seeking to join either the NBB or NBO but there is a resting display-price slid order on the contra-side of the Exchange's order book.

¹¹ See Exchange Rule 16.1(a)(29) (defining the terms “NBB”, “NBO”, and “NBBO”).

¹² Id.

¹³ See Exchange Rule 21.1(d)(8).

In order to facilitate the entry of orders priced at the National Best Bid or Offer (“NBBO”), the Exchange proposes to add subparagraph (4) to Rule 21.1(h) modifying the operation of orders subject to the display price sliding process when a contra-side Post Only Order is received by EDGX Options. Under proposed subparagraph (4), to the extent an incoming Post Only Order would be ranked and displayed at a price equal to the ranked price of a contra-side order subject to display-price sliding (i.e., the locking price) the order subject to display-price sliding would be re-ranked at one (1) cent above the current NBB (for offers) or one (1) cent below the current NBO (for bids). An order subject to display price sliding that is re-ranked pursuant to proposed subparagraph (4) of Rule 21.1(h) would be re-ranked at the locking price in the event there is no longer displayed contra-side interest at the locking price. In both cases, the order would remain displayed by the System at one minimum price variation below the current NBO (for bids) or to one minimum price variation above the current NBB (for offers).

The below examples describe the operation of orders subject to display price sliding under proposed subparagraph (4) to Rule 21.1(h).

Example 1: Securities Quoted in Penny Increments—Proposed Operation. Assume the NBBO is $1.00 x $1.01 and that the Exchange's displayed best bid and offer (“BBO”) is $1.00 x $1.02. Also assume that a non-routable order to buy at $1.01 subject to display price sliding is resting on the EDGX Options Book, ranked at $1.01 and displayed at $1.00. Assume a Post Only Order to sell at $1.01 is entered and, under current functionality, would be rejected because it is executable at the locking price of the order to buy subject to display price sliding resting on the EDGX Options Book. As proposed, the order to buy subject to display price sliding would be re-ranked and would remain displayed at $1.00, one (1) cent below the current NBO. The Post Only Order to sell would be posted to the EDGX Options Book, ranked and displayed at $1.01 (i.e., allowing the Exchange to join the NBBO of $1.00 x $1.01). If the Post Only Order to sell is executed or cancelled, the order to buy subject to display price sliding would be re-ranked at $1.01, its original ranked price, and would remain displayed at $1.00.

Example 2: Securities Quoted in Non-Penny Increments—Proposed Operation. Assume the NBBO is $1.00 x $1.05 and that the Exchange's BBO is $1.00 x $1.10. Also assume that a non-routable order to buy at $1.05 subject to display price sliding is resting on the EDGX Options Book, ranked at $1.05 and displayed at $1.00. Assume a Post Only Order to sell at $1.05 is entered and, under current functionality, would be rejected because it is executable at the locking price of the order to buy subject to display price sliding resting on the EDGX Options Book. As proposed, the order to buy subject to display price sliding would be re-ranked at $1.04, one (1) cent below the NBO, and would remain displayed at $1.00. The Post Only Order to sell would be posted to the EDGX Options Book, ranked and displayed at $1.05 (i.e., allowing the Exchange to join the NBBO of $1.00 x $1.01). If the Post Only Order to sell is executed or cancelled, the order to buy subject to display price sliding would be re-ranked at $1.05, its original ranked price, and would remain displayed at $1.00.

The Exchange notes that similar behavior currently exists on the Bats BZX Exchange, Inc. (“BZX”) equities platform that permits an order to buy(sell) subject to display price sliding to be executed at one-half minimum price variation more(less) than the price of a contra-side displayed BZX Post Only Order.¹⁴ Specifically, under BZX Rule 11.9(g)(1)(E), BZX Post Only Orders are permitted to post and be displayed opposite the ranked price of orders subject to display-price sliding. In the event an order subject to display-price sliding is ranked on the BZX Book ¹⁵ at a price equal to an opposite side order displayed by the Exchange, it cannot be executed at that price and instead will be subject to processing as set forth in BZX Rule 11.13(a)(4)(D). Under BZX Rule 11.13(a)(4)(D), in the event that an incoming order is a market order or is a limit order priced more aggressively than the displayed order, BZX will execute the incoming order at, in the case of an incoming sell order, one-half minimum price variation less than the price of the displayed order, and, in the case of an incoming buy order, at one-half minimum price variation more than the price of the displayed order. This behavior is designed to avoid an apparent priority issue. In particular, in such a situation the Exchange believes a User representing an order that is displayed on the Exchange might believe that an incoming order was received by the Exchange and then bypassed such displayed order, removing some other non-displayed liquidity on the same side of the market as such displayed order. Similar to what the Exchange proposes for EDGX Options, the above described functionality on its equites platform also effectively changes the ranked price of the order subject to display price sliding. Although the underlying solution is intended to solve the same circumstance, because half-penny executions are not permitted with respect to options transactions, on EDGX Options the Exchange proposes to adjust the ranked price of the display-price slid order when a contra-side Post Only order is received by EDGX and posted at the locking price.

¹⁴ See BZX Rule 11.9(c)(6).

¹⁵ See BZX Rule 1.5(e).

2. Statutory Basis

The Exchange believes that its proposal is consistent with the requirements of the Act and the rules and regulations thereunder that are applicable to a national securities exchange, and, in particular, with the requirements of Section 6(b) of the Act.¹⁶ In particular, the proposal is consistent with Section 6(b)(5) of the Act ¹⁷ because it is designed to encourage displayed liquidity and offer market participants greater flexibility to post liquidity on the EDGX Options Book, thereby promoting just and equitable principles of trade, fostering cooperation and coordination with persons engaged in facilitating transactions in securities, removing impediments to, and perfecting the mechanism of, a free and open market and a national market system.

¹⁶ 15 U.S.C. 78f(b).

¹⁷ 15 U.S.C. 78f(b)(5).

Price Improving Orders

The proposed changes to the description of Price Improving Orders under Rule 21.1(d)(6) promote just and equitable principles of trade and foster cooperation and coordination with persons engaged in facilitating transactions in securities. Specifically, the proposed change regarding Price Improving Orders subject to the Price Adjust process is designed to prevent the possibility of an internally crossed book where a Price Improving Order has already been submitted and is ranked non-displayed by the Exchange and a Post Only Order subject to the Price Adjust process is entered at a price increment smaller than the security's minimum price increment and that crosses the resting order.

In addition, the proposed amendment to Exchange Rule 21.1(d)(6) to clarify that Price Improving Orders subject to the display-price sliding process will be ranked at the price entered by the User down to the current NBB (for offers) or up to the current NBO (for bids) also promotes just and equitable principles of trade because it is consistent with and further clarifies the current operation of such orders. In addition, the addition of such language should avoid potential investor confusion regarding the operation of such orders with regard to the proposed language amending the operation of Price Improving Orders subject to the Price Adjust process.

Display Price Sliding Process and Post Only Orders

Under current functionality, an incoming Post Only Order would be rejected if it is executable at the locking price of a contra-side order subject to display price sliding resting on the EDGX Options Book. This, at times, inhibits market participants, including Market Makers ¹⁸ from utilizing Post Only Orders to quote at the NBBO. Post Only Orders allow Users to post aggressively priced liquidity, as such Users have certainty as to the fee or rebate they will receive from the Exchange if their order is executed. Without such ability and by rejecting such Post Only Orders in scenarios described herein, the Exchange believes that certain Users would simply post less aggressively priced liquidity, and prices available for market participants, including retail investors, would deteriorate. Accordingly, the Exchange believes that the proposed rule change promotes just and equitable principles of trade by enhancing the liquidity available to all market participants by allowing Market Makers and other liquidity providers to add liquidity to the Exchange at the NBBO without fear that their order would be rejected. In addition, the proposed rule change would assist Market Makers in satisfying their two-sided quoting obligations under Exchange Rules 22.5(a)(1) and 22.6(d)(1). The proposed rule change should increase displayed liquidity at the NBBO on the Exchange, resulting in improved market quality and price discovery for all participants. The Exchange also notes that similar behavior currently exists on BZX's equities platform that permits an order to buy(sell) subject to display price sliding to be executed at one-half minimum price variation more(less) than the price of a contra-side displayed BZX Post Only Order.¹⁹

¹⁸ See Exchange Rule 16.1(a)(37).

¹⁹ See BZX Rules 11.9(g)(1)(E) and 11.13(a)(4)(D). See also Securities Exchange Act Release No. 64754 (June 27, 2011), 76 FR 38712 (July 1, 2011) (SR-BATS-2011-015) (Order Approving a Proposed Rule Change to Amend BATS Rule 11.9, Entitled “Orders and Modifiers” and BATS Rule 11.13, Entitled “Order Execution”).

(B) Self-Regulatory Organization's Statement on Burden on Competition

The Exchange does not believe that the proposed rule change will impose any burden on competition that is not necessary or appropriate in furtherance of the purposes of the Act. To the contrary, the Exchange believes the proposed rule change regarding display price sliding and Post Only Orders would enhance competition by enabling market participants to post liquidity at the NBBO, thereby increasing the liquidity on the Exchange at the NBBO. In addition, the Exchange believes the proposed amendments to Price Improving Orders would does not impact competition, but rather seeks to avoid the potential of an internally crossed book on the Exchange as well as to further clarify the operation of such orders when subject to the display price sliding process. For all the reasons stated above, the Exchange does not believe that the proposed rule changes will impose any burden on competition not necessary or appropriate in furtherance of the purposes of the Act, and believes the proposed change will enhance competition.

(C) Self-Regulatory Organization's Statement on Comments on the Proposed Rule Change Received From Members, Participants or Others

The Exchange has neither solicited nor received written comments on the proposed rule change. The Exchange has not received any written comments from members or other interested parties.

III. Date of Effectiveness of the Proposed Rule Change and Timing for Commission Action

The Exchange has filed the proposed rule change pursuant to Section 19(b)(3)(A)(iii) of the Act ²⁰ and Rule 19b-4(f)(6) thereunder.²¹ Because the proposed rule change does not: (i) significantly affect the protection of investors or the public interest; (ii) impose any significant burden on competition; and (iii) become operative for 30 days from the date on which it was filed, or such shorter time as the Commission may designate, if consistent with the protection of investors and the public interest, the proposed rule change has become effective pursuant to Section 19(b)(3)(A) of the Act ²² and Rule 19b-4(f)(6) thereunder.²³

²⁰ 15 U.S.C. 78s(b)(3)(A)(iii).

²¹ 17 CFR 240.19b-4(f)(6).

²² 15 U.S.C. 78s(b)(3)(A).

²³ In addition, Rule 19b-4(f)(6)(iii) requires the Exchange to give the Commission written notice of the Exchange's intent to file the proposed rule change, along with a brief description and text of the proposed rule change, at least five business days prior to the date of filing of the proposed rule change, or such shorter time as designated by the Commission. The Exchange has satisfied this requirement.

A proposed rule change filed under Rule 19b-4(f)(6) under the Act ²⁴ normally does not become operative for 30 days after the date of filing. However, Rule 19b-4(f)(6)(iii) ²⁵ permits the Commission to designate a shorter time if such action is consistent with the protection of investors and the public interest. The Exchange has asked the Commission to waive the 30-day operative delay so that the proposal may become operative immediately upon filing. The Exchange states that the proposed rule change will benefit market participants by enhancing their ability to post liquidity at the NBBO, and that waiver of the operative delay may increase displayed liquidity at the NBBO on the Exchange, resulting in improved market quality and price discovery for all participants in a timely manner. Further, the Exchange notes that the proposed rule change will not require any systems changes by Exchange Users that would necessitate a delay, as the Exchange will now accept and no longer reject Post Only Orders in the situations described herein. Based on the foregoing, the Commission believes that waiving the 30-day operative delay is consistent with the protection of investors and the public interest.²⁶ The Commission hereby grants the Exchange's request and designates the proposal operative upon filing.

²⁴ 17 CFR 240.19b-4(f)(6).

²⁵ 17 CFR 240.19b-4(f)(6)(iii).

²⁶ For purposes only of waiving the 30-day operative delay, the Commission has also considered the proposed rule's impact on efficiency, competition, and capital formation. See 15 U.S.C. 78c(f).

At any time within 60 days of the filing of the proposed rule change, the Commission summarily may temporarily suspend such rule change if it appears to the Commission that such action is necessary or appropriate in the public interest, for the protection of investors, or otherwise in furtherance of the purposes of the Act. If the Commission takes such action, the Commission shall institute proceedings to determine whether the proposed rule should be approved or disapproved.

IV. Solicitation of Comments

Interested persons are invited to submit written data, views, and arguments concerning the foregoing, including whether the proposed rule change is consistent with the Act. Comments may be submitted by any of the following methods:

Electronic Comments

• Use the Commission's Internet comment form (http://www.sec.gov/rules/sro.shtml); or

• Send an email to rule-comments@sec.gov. Please include File Number SR-BatsEDGX-2016-17 on the subject line.

Paper Comments

• Send paper comments in triplicate to Secretary, Securities and Exchange Commission, 100 F Street NE., Washington, DC 20549-1090.

All submissions should refer to File Number SR-BatsEDGX-2016-17. This file number should be included on the subject line if email is used. To help the Commission process and review your comments more efficiently, please use only one method. The Commission will post all comments on the Commission's Internet Web site (http://www.sec.gov/rules/sro.shtml). Copies of the submission, all subsequent amendments, all written statements with respect to the proposed rule change that are filed with the Commission, and all written communications relating to the proposed rule change between the Commission and any person, other than those that may be withheld from the public in accordance with the provisions of 5 U.S.C. 552, will be available for Web site viewing and printing in the Commission's Public Reference Room, 100 F Street NE., Washington, DC 20549, on official business days between the hours of 10:00 a.m. and 3:00 p.m. Copies of such filing will also be available for inspection and copying at the principal office of the Exchange. All comments received will be posted without change; the Commission does not edit personal identifying information from submissions. You should submit only information that you wish to make available publicly. All submissions should refer to File Number SR-BatsEDGX-2016-17 and should be submitted on or before June 8, 2016.

For the Commission, by the Division of Trading and Markets, pursuant to delegated authority.²⁷
²⁷ 17 CFR 200.30-3(a)(12).
Robert W. Errett,
Deputy Secretary.

[FR Doc. 2016-11642 Filed 5-17-16; 8:45 am]

BILLING CODE 8011-01-P